DEPARTMENT OF AGRICULTURE

Office of the Secretary

Recreation Resource Advisory Committees

AGENCY: Forest Service, USDA.

ACTION: Notice of intent to re-establish the Recreation Resource Advisory Committees.

SUMMARY: The Secretary of Agriculture intends to re-establish the charter for five Forest Service Recreation Resource Advisory Committees (Recreation RACs) pursuant to Section 4 of the Federal Lands Recreation Enhancement Act, which passed into law as part of the 2005 Consolidated Appropriations Act (Pub. L. 108-447) on December 8, 2004. The Recreation RACs operate in the Pacific Northwest, Pacific Southwest, Eastern, Southern Regions of the Forest Service and the State of Colorado. The purpose is to provide advice and recommendations on recreation fees to both the Forest Service and the Bureau of Land Management (BLM) as appropriate.

FOR FURTHER INFORMATION CONTACT: Julie Cox, National Recreation RAC Coordinator, USDA Forest Service, Pacific Northwest Region, 333 SW 1st Avenue, Portland, OR 97208, (503) 808-2984.

SUPPLEMENTARY INFORMATION:

Background

The Federal Lands Recreation Enhancement Act (REA), signed in December 2004, directs the Secretary of Agriculture, the Secretary of the Interior, or both to establish Recreation RACs, or use existing advisory committees to perform the duties of Recreation RACs, in each State or region for Federal recreation lands and waters managed by the Forest Service or the BLM. These committees make recreation fee program recommendations on implementing or eliminating standard amenity fees; expanded amenity fees; and noncommercial, individual special recreation permit fees; expanding or limiting the recreation fee program; and fee-level changes.

The REA grants flexibility to Recreation RACs by stating that the Secretaries:

• May have as many additional Recreation RACs in a State or region as the Secretaries consider necessary;

• Shall not establish a Recreation RAC in a State if the Secretaries determine, in consultation with the Governor of the State, that sufficient interest does not exist to ensure that participation on the committee is balanced in terms of the points of view represented and the functions to be performed; or

• May use a resource advisory committee established pursuant to another provision of law and in accordance with that law.

The Forest Service and BLM elected to jointly use existing BLM RACs in the states of Arizona, Idaho, the Dakotas, Montana, Nevada, New Mexico, and Utah. The Forest Service also chartered new Recreation RACs for the Forest Service Pacific Northwest, Pacific Southwest, Eastern and Southern Regions and for the State of Colorado. The Forest Service is using an existing advisory board for the Black Hills National Forest in South Dakota. In addition, the Governors of three states—Alaska, Nebraska and Wyoming—requested that their states be exempt from the Recreation RAC requirement, and the Secretary concurred with the exemptions.

Membership

Members were initially appointed to the Forest Service established Recreation RACs in February 2007 for the four regions, and July 2007 for the one state. Each Recreation RAC consists of 11 members that are representative of the following interests:

(1) Five persons who represent recreation users and that include, as appropriate, persons representing—

(a) Winter motorized recreation such as snowmobiling;

(b) Winter nonmotorized recreation such as snowshoeing, cross-country and downhill skiing, and snowboarding;

(c) Summer motorized recreation such as motorcycling, boating, and off-highway vehicle driving;

(d) Summer nonmotorized recreation such as backpacking, horseback riding, mountain biking, canoeing, and rafting; and

(e) Hunting and fishing.

(2) Three persons who represent interest groups that include, as appropriate—

(a) Motorized outfitters and guides;

(b) Nonmotorized outfitters and guides; and

(c) Local environmental groups.

(3) Three persons who are—

(a) State tourism official representing the State;

(b) A representative of affected Indian tribes; and

(c) A representative of affected local government interests.

The Recreation RAC members elect and determine chair and co-chair responsibility. The Forest Service Regional Foresters or designee for each identified Recreation RAC shall serve as the designated Federal official under sections 10(e) and (f) of the Federal Advisory Committee Act (5 U.S.C. App. II).

Equal opportunity practices in accordance with United States Department of Agriculture (USDA) policies shall be followed in all appointments to the committee. To help ensure that the recommendations of the committee have taken into account the needs of the diverse groups served by USDA, membership shall include to the extent possible, individuals with demonstrated ability to represent women, men, racial and ethnic groups, and persons with disabilities.

Dated: January 8, 2013.
Gregory Parham,
Acting Assistant Secretary of Administration.

[FR Doc. 2013-01018 Filed 1-17-13; 8:45 am]

BILLING CODE 3410-11-P